COMMISSION ON CIVIL RIGHTS

Notice of Public Meeting of the North Carolina Advisory Committee

AGENCY: U.S. Commission on Civil Rights.

ACTION: Notice of meeting.

SUMMARY: Notice is hereby given, pursuant to the provisions of the rules and regulations of the U.S. Commission on Civil Rights (Commission) and the Federal Advisory Committee Act that the North Carolina Advisory Committee (Committee) will hold a meeting on Tuesday, April 14, 2020, from 12:00-1:00 p.m. EST for the purpose of discussing the committee's civil rights project.

DATES: The meeting will be held on Tuesday, April 14, 2020, from 12:00-1:00 p.m. EST.

Public Call Information: Dial: (888) 220-8474; Conference ID: 5152396.

FOR FURTHER INFORMATION CONTACT: Mallory Trachtenberg, DFO, at mtrachtenberg@usccr.gov or 312-353-8311.

SUPPLEMENTARY INFORMATION: Members of the public can listen to the discussion. This meeting is available to the public through the following toll-free call-in number. An open comment period will be provided to allow members of the public to make a statement as time allows. The conference operator will ask callers to identify themselves, the organizations they are affiliated with (if any), and an email address prior to placing callers into the conference call. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are also entitled to submit written comments; the comments must be received in the regional office within 30 days following the meeting. Written comments may be mailed to the Advisory Committee Management Unit, U.S. Commission on Civil Rights, 230 S. Dearborn, Suite 2120, Chicago IL 60604. They may also be emailed to Carolyn Allen at callen@usccr.gov. Persons who desire additional information may contact the Regional Programs Unit Office at (312) 353-8311.

Records generated from this meeting may be inspected and reproduced at the Regional Programs Unit Office, as they become available, both before and after the meeting. Records of the meeting will be available via www.facadatabase.gov under the Commission on Civil Rights, Indiana Advisory Committee link. Persons interested in the work of this Committee are directed to the Commission's website, http://www.usccr.gov, or may contact the Regional Programs Unit Office at the above email or street address.

Agenda

I. Welcome and Roll Call

II. Announcements and Updates

III. Discussion:

a. Discussion of Reappointments

b. Discussion of Chair for the committee

c. Civil Rights Project in Indiana

IV. Future Plans and Actions

V. Public Comment

VI. Adjournment

Dated: March 30, 2020.
David Mussatt,
Supervisory Chief, Regional Programs Unit.

[FR Doc. 2020-06918 Filed 4-1-20; 8:45 am]

BILLING CODE P